DEPARTMENT OF COMMERCE

National Oceanic and Atmospheric Administration

RIN 0648-XR051

Marine Mammals; File No. 23043

AGENCY: National Marine Fisheries Service (NMFS), National Oceanic and Atmospheric Administration (NOAA), Commerce.

ACTION: Notice; receipt of application.

SUMMARY: Notice is hereby given that Devon Massyn, Natural History Unit, 2118 Manhattan Beach Blvd., Unit B, Redondo Beach, CA 90278, has applied in due form for a permit to conduct commercial or educational photography on California sea lions (Zalophus californianus) and northern elephant seals (Mirounga angustirostris).

DATES: Written, telefaxed, or email comments must be received on or before October 31, 2019.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Shasta McClenahan, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film pinnipeds along the coasts of California and Oregon to obtain footage for a National Geographic wildlife documentary. The show will focus on predator and prey relationships and the complex web of life that draws sharks and wildlife from the vast open ocean to the west coast. Up to 60 northern elephant seals and 160 California sea lions may be harassed annually during filming activities. The applicant would film on land or while diving underwater using telephoto lenses and static cameras. Up to 50 harbor seals (Phoca vitulina) may be incidentally harassed during filming activities. The permit would expire July 31, 2021.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 26, 2019.
Julia Marie Harrison,
Chief, Permits and Conservation Division, Office of Protected Resources, National Marine Fisheries Service.

[FR Doc. 2019-21318 Filed 9-30-19; 8:45 am]

BILLING CODE 3510-22-P